DEPARTMENT OF JUSTICE

[OMB Number 1110-0NEW]

Agency Information Collection Activities; Proposed eCollection eComments Requested; Under Attack: Assaults on Our Nation's Law Enforcement

AGENCY: Federal Bureau of Investigation, Department of Justice.

ACTION: 30-Day notice.

SUMMARY: The Federal Bureau of Investigation, Department of Justice (DOJ), will be submitting the following information collection request to the Office of Management and Budget (OMB) for review and approval in accordance with the Paperwork Reduction Act of 1995. The proposed information collection was previously published in the Federal Register on November 27, 2023 allowing a 60-day comment period.

DATES: Comments are encouraged and will be accepted for 30 days until February 20, 2024.

FOR FURTHER INFORMATION CONTACT: If you have comments especially on the estimated public burden or associated response time, suggestions, or need a copy of the proposed information collection instrument with instructions or additional information, please contact: Kevin Harris/FBI CJIS, 1000 Custer Hollow Road, Clarksburg, WV 26306, (304) 625-2000, OSAT@fbi.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and enter the title of the information collection.This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New Collection.

2. Title of the Form/Collection: Under Attack: Assaults on Our Nation's Law Enforcement.

3. Agency form number, if any, and the applicable component of the Department of Justice sponsoring the collection: Officer Protocol Questionnaire or Offender Protocol Questionnaire/FBI CJIS Division.

4. Affected public who will be asked or required to respond, as well as a brief abstract: Affected Public: State, Local and Tribal governments, individual or households.

Abstract: Serious assaults on law enforcement in the United States are a growing problem, with both assaults with injury and felonious killings of law enforcement officers trending upward (FBI, 2022). While the Law Enforcement Officers Killed and Assaulted (LEOKA) data collection answers many questions related to these assaults and deaths, such as the who, what, when, where, and how, the data does not answer why these assaults are happening. Without knowing and understanding why these assaults are happening, we cannot begin to prevent them. Outside of the previous studies conducted by the FBI, there is a lack of research into this question of why offenders assault police officers. In particular, there is a lack of research that looks at both the officer and the offender in such incidents, and how the relationship between the two impacts the assault. The purposes of this qualitative study are to examine the possibility of predicting assaults on officers and to use this information to prevent future assaults. To date, very few studies outside of the FBI's Officer Safety Awareness Training (OSAT) research projects, have looked at these assaults from the perspectives of both the officer and the offender. By interviewing officers and offenders, this study seeks to gain a more thorough understanding of why these incidents take place, and the context surrounding them. Based on the recent trends and the modicum of previous research, it is expected the current study would make a large contribution to what is currently known about these attacks, and would play a substantial role in the preparedness, prevention, and mitigation of these incidents by informing those who develop training and operational practices. This mixed method research effort will use the Perpetrator-Motive Research Design (PMRD). PMRD is a 12-step methodological design that focuses on gaining a thorough understanding of the motivations of offenders. Interviewing incarcerated offenders allows for increased accessibility, increased sample size, interviewer security, and avoidance of ethical or potential legal entanglements which interviewers might be exposed to while questioning offenders still at large or whose cases have not yet exhausted the criminal legal process. Because PMRD is suited to identify and understand offender motives, the findings can be used in the development of training interventions for law enforcement officials which could improve officer safety. As part of the study, researchers will also seek to examine the incident reports associated with the assaults and the FBI criminal history record information of offenders. Researchers will also seek to obtain, examine, and use any body-worn camera or dashboard camera recordings associated with the assaults for research and training purposes.

5. Obligation to Respond: Voluntary.

6. Total Estimated Number of Respondents: 120.

7. Estimated Time per Respondent: 2 hours.

8. Frequency: This is a one-time collection.

9. Total Estimated Annual Time Burden: 240.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: January 12, 2024.
Darwin Arceo,
Department Clearance Officer for PRA, U.S. Department of Justice.

[FR Doc. 2024-00926 Filed 1-17-24; 8:45 am]

BILLING CODE 4410-02-P